DEPARTMENT OF THE INTERIOR

Office of the Secretary

Bureau of Indian Affairs

Office of Special Trustee for American Indians

Office of Indian Trust Transition

Tribal Consultation on Indian Trust Asset Management

AGENCIES: Office of the Secretary, Bureau of Indian Affairs, Office of the Special Trustee for American Indians, Office of Indian Trust Transition, Interior.

ACTION: Notice of tribal consultation meetings.

SUMMARY: The Office of the Secretary, along with the Bureau of Indian Affairs, the Office of Special Trustee for American Indians, and Office of Indian Trust Transition will conduct meetings on Indian trust asset management. The purpose is to discuss a proposed reorganization of the Department's trust responsibility functions to improve the management of Indian trust assets. Any Indian tribe, band, nation or individual is encouraged to attend the meeting and to submit written comments.

DATES: The second consultation meeting will be held in Minneapolis, Minnesota on December 20, 2002 at 9 a.m. The first consultation meeting is scheduled to be held in Albuquerque, New Mexico on December 13, 2001. The dates times and locations of additional meetings will be announced shortly. All written comments must be received by February 15, 2002.

ADDRESSES: The location of the Albuquerque consultation has changed. The Albuquerque meeting will be held on December 13, 2002 at the Hyatt Regency, 330 Tijeras Street NW, Albuquerque, New Mexico. The Minneapolis consultation will be held at the Doubletree Hotel, 7901 24th Avenue South, Minneapolis, Minnesota. Send written comments to the Office of the Secretary, Attn: Office of the executive Secretariat, 1849 C Street NW., MS7229-MIB, Washington, DC 20240. Send written comments by electronic mail to www.doi.gov/oait.

FOR FURTHER INFORMATION CONTACT: Wayne R. Smith, Deputy Assistant Secretary Indian Affairs, 1849 C Street NW., MS4140-MIB, Washington, DC 20240, (202) 208-7163, Fax (202) 208-5320.

SUPPLEMENTARY INFORMATION: The purpose of the meeting is to involve affected and interested parties in the process of organizing the Department's trust asset management responsibility functions. The Department has determined that there is a need for dramatic change in the management of Indian trust assets. This need has been made apparent in several ways. An independent consultant has analyzed important components of the Department's trust reform activities and made several recommendations, including the recommendation that the Department consolidate trust functions under a single entity. Concerns have also been raised in the Cobell v. Norton case, which is currently pending in the Federal District Court for the District of Columbia. Internal review has also supported reorganization. Additionally, a recent report commissioned by the Department of the Interior has supported reorganization. This report, developed by the EDS Corporation, should be available online at www.doi.gov by December 10, 2002. A new office in the Department, the Office of Indian Trust Transition, has been created to plan and support reorganization. While preliminary actions have been taken by the Department, the plan is still in the early stages of development. The meeting is the first in a series of public meetings. Future meetings have been tentatively scheduled in Oklahoma City, OK on January 3, 2002; Rapid City, SD on January 10, 2002; Palm Springs, CA on January 17, 2002; Anchorage, AK on January 23, 2002; and Washington, DC, on February 1, 2002. The dates and locations of these meetings will be announced in a future notice.

Written comments, including names, street addresses, and other contact information of persons submitting comments, will be available for public review at the address stated in the ADDRESSES section. Interested persons may examine the written comments during regular business hours (7:45 a.m. to 4:15 p.m. EST), Monday through Friday, except Federal holidays. Individuals who submit comments may request confidentiality. If you wish us to withhold your name, street address, and other contact information (such as fax or phone number) from public review or from disclosure under the Freedom of Information Act, you must state this prominently at the beginning of your comment. We will honor your request to the extent allowable by law. We will make available for public inspection in their entirety all submissions from organizations or businesses, and from individuals identifying themselves as representatives or officials of organizations or businesses.

This meeting supports administrative policy on tribal consultation by encouraging maximum direct participation of representatives of tribal governments, tribal organizations, and other interested persons in important processes.

Dated: December 3, 2001.
J. Steven Griles,
Deputy Secretary.

[FR Doc. 01-30327 Filed 12-4-01; 10:09 am]

BILLING CODE 4310-02-M